ENVIRONMENTAL PROTECTION AGENCY

40 CFR Parts 122 and 412

[EPA-HQ-OW-2005-0037; FRL-8190-3]

National Pollutant Discharge Elimination System Permit Regulation and Effluent Limitations Guidelines and Standards for Concentrated Animal Feeding Operations—Proposed Revisions; Public Meetings

AGENCY: Environmental Protection Agency.

ACTION: Notice of public meetings.

SUMMARY: The Environmental Protection Agency hereby gives notice that it will conduct five public meetings on proposed regulatory revisions under the Clean Water Act for Concentrated Animal Feeding Operations (CAFOs). These proposed regulations were signed by EPA Administrator Stephen L. Johnson on June 22, 2006, and are publishing in the Federal Register on June 30, 2006 (FRL 8189-7), under the title Revised National Pollutant Discharge Elimination System Permit Regulation and Effluent Limitation Guidelines for Concentrated Animal Feeding Operations in Response to Waterkeeper Decision.

The purpose of the meetings is to enhance public understanding of the proposed regulations for CAFOs. The meetings are not a mechanism for submitting formal comments on the proposal. The meetings will consist of a brief presentation by EPA officials on the proposed regulations followed by a question and answer session. Participants are encouraged to familiarize themselves with the basic aspects of the proposed regulations prior to the public meetings; each speaker's time will be limited so that all interested parties may have the opportunity to pose questions. Advance registration is not required.

DATES: See SUPPLEMENTARY INFORMATION section for meeting dates.

ADDRESSES: See SUPPLEMENTARY INFORMATION section for meeting addresses.

FOR FURTHER INFORMATION CONTACT: For additional information, please visit the EPA Web site at http://cfpub.epa.gov/npdes/afo/aforule.cfm, or contact Kawana Cohen, Water Permits Division, Office of Wastewater Management (4203M), U.S. Environmental Protection Agency, 1200 Pennsylvania Ave., NW., Washington, DC 20460; telephone number: (202) 564-2345, e-mail address: cohen.kawana@epa.gov.

SUPPLEMENTARY INFORMATION:

Dates, Times and Addresses for Public Meetings

EPA is conducting five public meetings on the CAFO proposed regulations as described in the following table:

Date | Location | Time | Facility
Mon., July 24, 2006 | Fayetteville, NC | 1 p.m.-4 p.m. EST | Crown Coliseum, 1960 Coliseum Drive, Faryetteville, NC 28306.
Tues., July 25, 2006 | Ames, IA | 1 p.m.-4 p.m. CST | Iowa State Center, Scheman Conference Center, Ames, IA 50011-1113.
Tues., August 1, 2006 | Golden, CO | 1 p.m.-4 p.m. MST | Jefferson County Fairgrounds, 15200 W. 6th Ave., Golden, CO 80401.
Wed., August 2, 2006 | Dallas, TX | 9 a.m.-12 p.m. CST | Texas A&M—Dallas Agricultural Research & Extension Center (Pavilion), 17360 Coit Rd., Dallas, TX 75252.
Thurs., August 3, 2006 | Sacramento, CA | 8 a.m.-11 a.m. PST | CalEPA Building, Byran Sher Auditorium, 1001 I Street, Sacramento, CA 95814.

This Federal Register announcement is intended to supplement and refer interested parties to the notice of the public meetings provided on EPA's AFO NPDES Web page, on June 22, 2006. EPA has established a comment period in the proposed rule of 45 days. In scheduling these public meetings, EPA wishes to provide the public the opportunity to be fully informed about the contents of the proposed rule in advance of the date by which comments must be submitted. EPA is utilizing its Web site, which will be updated periodically with specific details concerning location and time, as the principal means of providing information about the public meetings. EPA recommends that those interested in attending a meeting check the Web site for additional information as it becomes available.

Please note that the purpose of these meetings is to enhance public understanding of the proposed regulations for CAFOs. The meetings are not a mechanism for submitting formal comments on the proposal, and formal comments should be submitted following the procedures described in the proposed regulation.

Prior to attending any of these public meetings, please confirm exact location, date and time information via EPA's AFO NPDES Web page (http://cfpub.epa.gov/npdes/afo/aforule.cfm).

Background

On June 22, 2006, EPA Administrator Stephen Johnson signed the Agency's proposal to revise the regulations for CAFOs in response to the Second Circuit Court of Appeals decision in Waterkeeper Alliance et al. v. EPA, 399 F.3d 486 (2nd Cir. 2005). The proposed regulations, publishing in the Federal Register on June 30, 2006, respond to the court ruling.

Dated: June 27, 2006.
Jane S. Moore,
Deputy Director, Office of Wastewater Management, Office of Water.

[FR Doc. E6-10426 Filed 6-30-06; 8:45 am]

BILLING CODE 6560-50-P